DEPARTMENT OF HEALTH AND HUMAN SERVICES

Renewal of Charter for the Secretary's Advisory Committee on Human Research Protections

AGENCY: Department of Health and Human Services, Office of the Secretary, Office of the Assistant Secretary for Health.

ACTION: Notice.

SUMMARY: As stipulated by the Federal Advisory Committee Act, as amended (5 U.S.C. App), the U.S. Department of Health and Human Services is hereby announcing renewal of the charter for the Secretary's Advisory Committee on Human Research Protections (SACHRP).

FOR FURTHER INFORMATION CONTACT: Jerry Menikoff, M.D., J.D., Director, Office for Human Research Protections or Julia Gorey, J.D., Executive Director, SACHRP; U.S. Department of Health and Human Services, 1101 Wootton Parkway, Suite 200, Rockville, MD 20852; Telephone: (240) 453-6900; Fax: (240) 453-6909; e-mail address: julia.gorey@hhs.gov.

SUPPLEMENTARY INFORMATION: SACHRP was established in October 2002. The Committee was established to enhance and expand the focus of the former National Human Research Protections Advisory Committee (NHRPAC), which was terminated in August 2002. SACHRP provides expert advice and recommendations to the Secretary, through the Assistant Secretary for Health, on the conduct of research involving human subjects with particular emphasis on special populations, such as neonates and children, prisoners, and the decisionally impaired; pregnant women, embryos, and fetuses; individuals and populations in international studies; populations in which there are individually identifiable samples, data, or information; and investigator conflicts of interest.

Since SACHRP was established, renewal of the Committee charter has been carried out at the appropriate intervals as stipulated by FACA. The previous Committee charter was scheduled to expire on October 1, 2010. On October 1, 2010, the Secretary of Health and Human Services approved for the Committee charter to be renewed. The new charter was effected and filed with the appropriate Congressional offices and Library of Congress on October 1, 2010. Renewal of the SACHRP charter provides authorization for the Committee to operate until October 1, 2012.

A copy of the Committee charter is available on the SACHRP Web site at http://www.hhs.gov/ohrp/sachrp/charter.htm. A copy of the Committee charter also can be obtained by accessing the FACA database that is maintained by the Committee Management Secretariat under the General Services Administration. The Web site address for the FACA database is http://fido.gov/facadatabase.

Dated: November 16, 2010.
Jerry Menikoff,
Director, Office for Human Research Protections, and Executive Secretary, Secretary's Advisory Committee on Human Research Protections.

[FR Doc. 2010-29517 Filed 11-22-10; 8:45 am]

BILLING CODE 4150-36-P